DEPARTMENT OF JUSTICE

Notice of Lodging of Consent Decree Under the Comprehensive Environmental Response, Compensation, and Liability Act of 1980 (“CERCLA”)

Notice is hereby given that on July 28, 2010, a proposed Consent Decree in United States v. BIM Investment Corp. et al., Civil Action No. 1:10-cv-11263, was lodged with the United States District Court for the District of Massachusetts.

The Consent Decree resolves claims brought by the United States, on behalf of the United States Environmental Protection Agency (“EPA”), against four parties (“Settling Defendants”) under Sections 106 and 107 of the Comprehensive Environmental Response, Compensation, and Liability Act, 42 U.S.C. 9606 and 9607. In its Complaint, filed concurrently with the Consent Decree, the United States sought injunctive relief in order to address the release or threatened release of hazardous substances at or from the Blackburn and Union Privileges Superfund Site in Walpole, Massachusetts (the “Site”), along with the recovery of costs the United States incurred for response activities undertaken at the Site.

Under the Consent Decree, the Settling Defendants—BIM Investment Corporation, Shaffer Realty Nominee Trust, Tyco Healthcare Group LP, and W.R. Grace & Co.-Conn.—will implement the remedy selected by EPA for the Site, including the excavation of soil and sediment and the extraction and treatment of groundwater. The Consent Decree also requires the Settling Defendants to reimburse the United States for $1,431,860 in past response costs incurred at the Site, and to reimburse the United States for its future oversight costs at the Site, up to $2,000,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. BIM Investment Corp. et al., D.J. Ref. No. 90-11-3-09667.

The Consent Decree may be examined at the Office of the United States Attorney, District of Massachusetts, United States Courthouse, 1 Courthouse Way, Suite 9200, Boston, Massachusetts, 02210, and at U.S. EPA Region 1, 5 Post Office Square, Suite 100, Boston, Massachusetts, 02109. During the public comment period, the Consent Decree may also be examined on the following Department of Justice website: http://www.justice.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $136.50 for a copy of the complete Consent Decree (25 cents per page reproduction cost), or $30.25 for a copy without Appendix A (the 425-page Record of Decision, which is available at http://www.epa.gov/region1/superfund/sites/blackburn/293498.pdf), payable to the U.S. Treasury or, if by email or fax, forward a check in that amount to the Consent Decree Library at the stated address.

Maureen Katz,
Assistant Section Chief, Environmental Enforcement Section, Environment and Natural Resources Division.

[FR Doc. 2010-18975 Filed 8-2-10; 8:45 am]

BILLING CODE 4410-15-P